FEDERAL COMMUNICATIONS COMMISSION

47 CFR Part 52

[CC Docket No. 99-200; FCC 00-104]

Numbering Resource Optimization

AGENCY: Federal Communications Commission.

ACTION: Further notice of proposed rulemaking.

SUMMARY: This document seeks further comments on the following matters: Thousands-block number pooling; charging for numbering resources; utilization thresholds for carriers, and consideration of a transition period for wireless service providers implementation of thousand-block number pooling. The foregoing issues were addressed in a previous proposed rule; however, the comments and information received were insufficient for the agency to proceed on these matters. Therefore, the agency has formulated further questions and is now seeking additional comment.

DATES: Comments are due June 30, 2000, and reply comments are due July 7, 2000.

ADDRESSES: Federal Communications Commission, Secretary, 445 12th Street, SW, Room TW-B204F, Washington, DC 20554.

FOR FURTHER INFORMATION CONTACT: Aaron Goldberger, (202) 418-2320 or e-mail at agoldberg@fcc.gov or Cheryl Callahan at (202) 418-2320 or ccallaha@fcc.gov.

SUPPLEMENTARY INFORMATION: This is a summary of the Commission's Further Notice of Proposed Rulemaking adopted on March 17, 2000, and released on March 31, 2000. The full text of this Report and Order and Further Notice of Proposed Rulemaking is available for inspection and copying during normal business hours in the FCC Reference Center, 445 12th Street, SW, Washington, DC 20554. Comments and reply comments will be available for public inspection during regular business hours in the FCC Reference Center. The complete text may also be obtained through the world wide web, at http://www.fcc.gov/Bureaus/CommonCarrier/Orders, or may be purchased from the Commission's copy contractor, International Transcription Services, Inc., 1231 20th Street, NW, Washington, DC 20036.

Synopsis of the Further Notice of Proposed Rulemaking

1. In this Further Notice of Proposed Rulemaking (FNPRM), we seek further comment on what specific utilization threshold carriers not participating in thousands-block number pooling carriers should meet in order to request growth numbering resources. Commenters that offered a specific utilization threshold suggested that utilization thresholds should be set as low as 60% and as high as 90%. However, very little information was provided as to the basis for these specific threshold levels. We seek comment on specific utilization threshold(s). Comments should include rationale for the specific threshold(s) recommended, including the initial level, annual increases, and the maximum level. We tentatively conclude that a nationwide utilization threshold for growth numbering resources should be initially set at 50%. This threshold would increase by 10% annually until it reaches 80%. Additionally, we propose to require carriers to meet a specific rate center-based utilization threshold for the rate center in which it is seeking additional numbering resources. If parties propose a utilization threshold range, parties should explain in detail what criteria should be used to determine the specific rate-center based utilization threshold within that range. We seek further comment on whether state commissions should be allowed to set the rate-center based utilization threshold within this range based on criteria that we establish. We also seek further comment on utilization thresholds at the rate center level that should operate in unison with the thresholds at the NPA level.

2. Implementation of pooling for non-LNP capable carriers. We seek comment on whether covered CMRS carriers should be required to participate in pooling immediately upon expiration of the LNP forbearance period on November 24, 2002. In the alternative, we seek comment on whether we should allow some sort of transition period between the time that covered CMRS carriers must implement LNP, and the time that they must participate in pooling, and if so, what the minimum reasonable allowance for such a transition period would be. We note that by determining in this order that covered CMRS carriers will be required to participate in pooling once they have acquired LNP capability, we are providing a fairly long lead-time—more than two years—in which all of the necessary preparations may be accomplished. We further note that after they have acquired LNP capability, covered CMRS providers will be subject to the same terms and conditions regarding participation in thousands-block number pooling as are other LNP-capable carriers. For example, CMRS providers within and outside the top 100 MSAs will not be subject to pooling unless they have received a request for LNP from another carrier, and pooling will be limited to the same service area as their LNP deployment.

3. Pricing for Numbers. In the Notice of Proposed Rulemaking (NPRM) (64 FR 32471, June 17, 1999) we indicated that an alternative approach for improving the allocation and utilization of numbering resources would be to require carriers to pay for them. We noted that this approach could be in isolation or in combination with the administrative and numbering optimization approaches identified in the NPRM. One of the primary economic reasons given for opposing a market-based allocation system was that numbering resources are allocated in 10,000 blocks by rate center. Pricing under this paradigm, it was argued, would create a barrier to entry to new markets. In any case, we continue to believe that a market-based approach is the most pro-competitive, least intrusive way of ensuring that numbering resources are efficiently allocated. We believe that thousands-block pooling will substantially reduce the quantity of numbering resources new entrants will need to accumulate to enter a market. Therefore, we seek further comment on how a market-based allocation system for numbering resources could be implemented. Specifically, we seek comment on how a market-based allocation system would affect the efficiency of allocation of numbers among carriers. Given that our motivation in seeking comment on such an approach is to increase the efficiency with which numbering resources are allocated and not to raise additional funds, we also seek comment on whether funds collected in this way could be used to offset other payments carriers make such as contributions to the universal service and TRS programs. Commenters addressing this issue should specifically address how to account for the fact that some carriers, such as interexchange carriers, do not generally use numbering resources but currently contribute to these other programs. Commenters should also ensure that their proposals provide market-based incentives for carriers to economize their use of numbering resources.

4. Recovery of Shared Industry and Direct Carrier-Specific Costs. Requiring incumbent LECs to bear their own costs related to thousands-block number pooling will not disadvantage any telecommunications carrier. All other carriers are also required to bear their own shared industry and carrier-specific costs. In the NPRM, the Commission tentatively concluded that incumbent LECs subject to rate-of-return or price cap regulation may not recover their interstate carrier-specific costs directly related to thousands-block number pooling through a federal charge assessed on end-users, but may recover the costs through other cost recovery mechanisms. Several parties agree with the tentative conclusion that thousands-block number pooling costs should not be recovered through a federal charge assessed on end users, but should be recovered through access charges. Some commenters recommend that price cap LECs should be allowed to treat the thousands-block pooling number costs as exogenous cost adjustments or, alternatively, place the costs in a new or existing price cap basket. Other parties, however, urge us to abandon our tentative conclusion because recovery through access charges would violate the competitive neutrality standard of section 251(e)(2).

5. In the Notice, we requested detailed estimates of the costs of thousands-block number pooling and asked that commenters separate the estimates by category of costs. We also sought comment on the appropriate methodology for developing these and other cost estimates. The amount and detail of the data provided in response to our request is insufficient for us to determine the amount and/or magnitude of the costs associated with thousands-block number pooling. Without sufficient cost data, it is difficult for us to determine the appropriate cost recovery mechanism for these costs. We, therefore, find it necessary to request additional cost information prior to making a final decision on the appropriate method of cost recovery. We seek further comment and cost studies that quantify shared industry and direct carrier-specific costs of thousands-block number pooling. We also seek comment and cost studies that take into account the cost savings associated with thousands-block pooling in comparison to the current numbering practices that result in more frequent area code changes.

Paperwork Reduction Act of 1995 Analysis

6. The actions contained in this FNPRM have been analyzed with respect to the Paperwork Reduction Act of 1995 and found that there are no new reporting requirements or burden on the public.

Initial Regulatory Flexibility Analysis

7. As required by the Regulatory Flexibility Act 5 U.S.C. 603 (RFA), the Commission has prepared this present Initial Regulatory Flexibility Analysis (IRFA) of the possible significant economic impact on small entities of the policies and rules proposed in this FNPRM. Written public comments are requested on this IRFA. Comments must be identified as responses to the IRFA and must be filed by the deadlines for comments on the FNPRM provided above in section VIII. The Commission will send a copy of the FNPRM, including this IRFA, to the Chief Counsel for Advocacy of the Small Business Administration.¹ In addition, the FNPRM and IRFA (or summaries thereof) will be published in the Federal Register.

¹ See 5 U.S.C. 603(a).

8. Need for and Objectives of the Proposed Rules. The Commission is issuing this Further Notice to seek public comment on (a) What specific utilization threshold carriers not participating in thousands-block number pooling should meet in order to request growth numbering resources; (b) whether state commissions should be allowed to set rate-center based utilization thresholds based on criteria that we establish; (c) whether covered CMRS carriers should be required to participate in thousands-block number pooling immediately upon expiration of the LNP forbearance period on November 24, 2002, or whether a transition period should be allowed; and (d) how a market-based allocation system for numbering resources could be implemented. We also seek to obtain the following: (a) Cost studies that quantify the incremental costs of thousands-block number pooling; (b) cost studies that quantify shared industry and direct carrier-specific costs of thousands-block number pooling; and (c) cost studies that take into account the cost savings associated with thousands-block number pooling in comparison to the current numbering practices that result in more frequent area code changes.

9. The Commission seeks to ensure that the limited numbering resources of the NANP are used efficiently; to protect customers from the expense and inconvenience that result from the implementation of new area codes; to forestall the enormous expense that will be incurred in expanding the NANP, and to ensure that all carriers have the numbering resources they need to compete in the rapidly growing telecommunications marketplace.

10. Legal Basis. The proposed action is authorized under sections 1, 4(i) and (j), 201, 208, and 251 of the Communications Act of 1934, as amended.²

² 47 U.S.C. 151, 154(i), 154(j), 201 and 251(e).

11. Description and Estimate of the Number of Small Entities That May Be Affected by this Report and Order. The RFA requires that an initial regulatory flexibility analysis be prepared for notice-and-comment rulemaking proceedings, unless the agency certifies that “the rule will not, if promulgated, have a significant economic impact on a substantial number of small entities.” ³ The RFA generally defines “small entity” as having the same meaning as the terms “small business,” “small organization,” and “small governmental jurisdiction.” ⁴ In addition, the term “small business” has the same meaning as the term “small business concern” under the Small Business Act.⁵ A small business concern is one which: (1) Is independently owned and operated; (2) is not dominant in its field of operation; and (3) satisfies any additional criteria established by the Small Business Administration (SBA).⁶

³ 5 U.S.C. 605(b).

⁴ Id. section 601(6).

⁵ Id. section 601(3) (incorporating by reference the definition of “small business concern” in Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁶ Small Business Act, 15 U.S.C. 632.

12. In this IRFA, we have considered the potential impact of this FNPRM on all users of telephone numbering resources. The small entities possibly affected by these rules include wireline, wireless, and other entities, as described in Appendix B. The SBA has defined a small business for Standard Industrial Classification (SIC) categories 4,812 (Radiotelephone Communications) and 4,813 (Telephone Communications, Except Radiotelephone) to be small entities having no more than 1,500 employees.⁷ Although some affected incumbent local exchange carriers (ILECs) may have 1,500 or fewer employees, we do not believe that such entities should be considered small entities within the meaning of the RFA because they are either dominant in their field of operations or are not independently owned and operated, and therefore by definition are not “small entities” or “small business concerns” under the RFA. Accordingly, our use of the terms “small entities” and “small businesses” does not encompass small ILECs. Out of an abundance of caution, however, for regulatory flexibility analysis purposes, we will separately consider small ILECs within this analysis and use the term “small ILECs” to refer to any ILECs that arguably might be defined by the SBA as “small business concerns.” ⁸

⁷ See 13 CFR 121.201.

⁸ See 13 CFR 121.201, SIC code 4813. Since the time of the Local Competition decision, 11 FCC Rcd 15499, 16144-45 (1996), 61 FR 45476 (Aug. 29, 1996), the Commission has consistently addressed in its regulatory flexibility analyses the impact of its rules on such ILECs.

13. The most reliable source of information regarding the total numbers of certain common carrier and related providers nationwide, as well as the numbers of commercial wireless entities, appears to be data the Commission publishes annually in its Carrier Locator: Interstate Service Providers Report (Locator).⁹ These carriers include, inter alia, local exchange carriers, competitive local exchange carriers, interexchange carriers, competitive access providers, satellite service providers, wireless telephony providers, operator service providers, pay telephone operators, providers of telephone toll service, providers of telephone exchange service, and resellers.

⁹ FCC, Carrier Locator: Interstate Service Providers at 1-2. This report lists 3,604 companies that provided interstate telecommunications service as of December 31, 1997 and was compiled using information from Telecommunications Relay Service (TRS) Fund Worksheets filed by carriers (Jan. 1999).

14. Total Number of Companies Affected. The U.S. Bureau of the Census (Census Bureau) reports that, at the end of 1992, there were 3,497 firms engaged in providing telephone services, as defined therein, for at least one year.¹⁰ This number contains a variety of different categories of carriers, including local exchange carriers, interexchange carriers, competitive access providers, cellular carriers, mobile service carriers, operator service providers, pay telephone operators, personal communications services providers, covered specialized mobile radio providers, and resellers.¹¹ It seems certain that some of those 3,497 telephone service firms may not qualify as small entities or small ILECs because they are not “independently owned and operated.” ¹² For example, a PCS provider that is affiliated with an interexchange carrier having more than 1,500 employees would not meet the definition of a small business. It is reasonable to conclude that fewer than 3,497 telephone service firms are small entity telephone service firms or small ILECs that may be affected by the proposed rules, if adopted.

¹⁰ U.S. Department of Commerce, Bureau of the Census, 1992 Census of Transportation, Communications, and Utilities: Establishment and Firm Size, at Firm Size 1-123 (1995) (1992 Census).

¹¹ A description of the effected entities are list in the Final Regulatory Flexibility Act Analysis, Appendix B.

¹² See generally 15 U.S.C. 632(a)(1).

15. Description of Projected Reporting, Recordkeeping, and Other Compliance Requirements.¹³ This FNPRM requests comment and cost studies (1) that quantify the incremental costs of thousands-block number pooling; (2) that quantify shared industry and direct carrier-specific costs of thousands-block number pooling; and (3) that take into account the costs savings associated with thousands-block number pooling in comparison to the current number practices that result in more frequent area code changes.

¹³ See NPRM, 64 FR 32471 (June 17, 1999) for an Initial Paperwork Reduction Act analysis.

16. Recordkeeping. None.

17. Other Compliance Requirements. None.

18. Steps taken to Minimize Significant Economic Impact on Small Entities and Significant Alternatives Considered. We have stated that section 251(e) does not exclude any class of carriers and that all telecommunications carriers must bear numbering administration costs on a competitively neutral basis.¹⁴ Therefore, we find that section 251(e)(2) requires us to ensure that the costs of numbering administration, including thousands-block number pooling, do not affect the ability of carriers to compete. As such, the costs of thousands-block number pooling should not give one provider an appreciable, incremental cost advantage over another when competing for a specific subscriber; and should not have a disparate effect on competing providers' abilities to earn a normal return.

¹⁴ Telephone Number Portability Third Report and Order, 13 FCC Rcd at 11731, 63 FR 35150 (June 29, 1998).

19. Federal Rules That May Duplicate, Overlap, or Conflict With the Proposed Rules. None.

Federal Communications Commission.
William F. Caton,
Deputy Secretary.

[FR Doc. 00-15200 Filed 6-15-00; 8:45 am]

BILLING CODE 6712-01-U